DEPARTMENT OF TRANSPORTATION

Federal Aviation Administration

14 CFR Part 39

[Docket No. FAA-2017-0340; Product Identifier 2017-NM-002-AD; Amendment 39-19114; AD 2017-24-10]

RIN 2120-AA64

Airworthiness Directives; The Boeing Company Airplanes

AGENCY: Federal Aviation Administration (FAA), DOT.

ACTION: Final rule.

SUMMARY: We are adopting a new airworthiness directive (AD) for certain The Boeing Company Model 757-200, -200PF, and -300 series airplanes. This AD was prompted by reports of cracking found at a certain fuselage frame inner chord. This AD requires repetitive inspections for any cracking of a certain fuselage frame inner chord; identification of the material of a certain fuselage frame inner chord for certain airplanes; and applicable corrective actions. We are issuing this AD to address the unsafe condition on these products.

DATES: This AD is effective January 9, 2018.

The Director of the Federal Register approved the incorporation by reference of certain publications listed in this AD as of January 9, 2018.

ADDRESSES: For service information identified in this final rule, contact Boeing Commercial Airplanes, Attention: Contractual & Data Services (C&DS), 2600 Westminster Blvd., MC 110-SK57, Seal Beach, CA 90740-5600; telephone 562-797-1717; Internet https://www.myboeingfleet.com. You may view this service information at the FAA, Transport Standards Branch, 1601 Lind Avenue SW., Renton, WA. For information on the availability of this material at the FAA, call 425-227-1221. It is also available on the Internet at http://www.regulations.gov by searching for and locating Docket No. FAA-2017-0340.

Examining the AD Docket

You may examine the AD docket on the Internet at http://www.regulations.gov by searching for and locating Docket No. FAA-2017-0340; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Muoi Vuong, Aerospace Engineer, Airframe Section, FAA, Los Angeles ACO Branch, 3960 Paramount Boulevard, Lakewood, CA 90712-4137; phone: 562-627-5205; fax: 562-627-5210; email: Muoi.Vuong@faa.gov.

SUPPLEMENTARY INFORMATION:

Discussion

We issued a notice of proposed rulemaking (NPRM) to amend 14 CFR part 39 by adding an AD that would apply to certain The Boeing Company Model 757-200, -200PF, and -300 series airplanes. The NPRM published in the Federal Register on May 19, 2017 (82 FR 22915). The NPRM was prompted by reports of cracking found at a certain fuselage frame inner chord. The NPRM proposed to require repetitive inspections for any cracking of a certain fuselage frame inner chord, identification of the material of a certain fuselage frame inner chord for certain airplanes, and applicable corrective actions. We are issuing this AD to detect and correct such cracks, which could result in the cargo door opening during flight, and result in rapid decompression of the airplane and the inability to sustain loads required for continued safe flight and landing.

Comments

We gave the public the opportunity to participate in developing this final rule. The following presents the comments received on the NPRM and the FAA's response to each comment. FedEx and United Airlines supported the NPRM.

Effect of Winglets on Accomplishment of the Proposed Actions

Aviation Partners Boeing stated that accomplishing the supplemental type certificate (STC) ST01518SE does not affect the actions specified in the NPRM.

We concur with the commenter. We have redesignated paragraph (c) of the proposed AD (82 FR 22915, May 19, 2017) as paragraph (c)(1) of this AD and added paragraph (c)(2) to this AD to state that installation of STC ST01518SE does not affect the ability to accomplish the actions required by this AD. Therefore, for airplanes on which STC ST01518SE is installed, a “change in product” alternative method of compliance (AMOC) approval request is not necessary to comply with the requirements of 14 CFR 39.17.

Request for Credit for Previous Actions Accomplished

Boeing requested credit for previous accomplishment of the inspections in the NPRM. Boeing stated that Boeing Alert Service Bulletin 757-53A0101, dated November 8, 2016 (referenced in the NPRM as the appropriate source of service information), was published on November 8, 2016. Boeing commented that the effective date of the AD could be more than 7 months later than publication date of the service information. Boeing stated that it is likely that some Model 757 operators have already accomplished the inspections in accordance with the service information by the time the AD takes effect; therefore, the AD should provide credit for those inspections.

We acknowledge the commenter's request and agree to clarify. Paragraph (f) of this AD states to accomplish the actions within the compliance times specified, unless those actions are already done. Therefore, if operators have accomplished the inspections in accordance with the Accomplishment Instructions of Boeing Alert Service Bulletin 757-53A0101, dated November 8, 2016, before the effective date of this AD, no further action is necessary. We have not revised this AD in this regard.

Request To Include Repair Information and Inspection Instructions

Delta Airlines (DAL) stated that it has concerns that the Accomplishment Instructions provided in Boeing Alert Service Bulletin 757-53A0101, dated November 8, 2016, do not include the corrective action. DAL commented that it will likely accomplish the inspections during 10-day maintenance visit checks, which would not be sufficient time for repair development if a crack is found. DAL also commented that operators would benefit from having corrective actions provided in the service information.

DAL stated that Boeing Alert Service Bulletin 757-53A0101, dated November 8, 2016, requires operators to repetitively inspect the inner chord, and the service information does not provide an option for an inspection should there be a previously installed FAA-approved repair. DAL commented that a previous repair of the frame has the potential to inhibit the ability to accomplish the inspection. DAL also commented that this leaves operators unable to accomplish the inspection as specified in Boeing Alert Service Bulletin 757-53A0101, dated November 8, 2016, and will require additional instruction as an AMOC.

We infer that DAL is requesting to delay issuance of the final rule until a revision of the service information includes repair data and alternative inspection instructions for previously accomplished repairs.

We disagree with the commenter's request. Including the repair data would delay issuance of this AD. Unique repair configurations may be necessary depending on the cracking that is detected. It is not possible to address each individual repair configuration in one AD. The various repair configurations and locations are unknown and therefore cannot be addressed at this time. Therefore, if cracking is found, it must be repaired before further flight using the corrective actions specified in Boeing Alert Service Bulletin 757-53A0101, dated November 8, 2016, or in accordance with paragraph (i)(2) of this AD. For previously approved repairs that prevent accomplishment of the inspections required by this AD, operators may request approval of an AMOC using the procedures in paragraph (j) of this AD. We have not revised this AD in this regard.

Conclusion

We reviewed the relevant data, considered the comments received, and determined that air safety and the public interest require adopting this final rule with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this final rule.

Related Service Information Under 1 CFR Part 51

We reviewed Boeing Alert Service Bulletin 757-53A0101, dated November 8, 2016. The service information describes procedures for repetitive surface high frequency eddy current (HFEC) inspections for any cracking of the fuselage station (STA) 1380 frame inner chord; an identification of the material (an inspection or measurement) of the fuselage STA 1380 frame inner chord; and applicable corrective actions. This service information is reasonably available because the interested parties have access to it through their normal course of business or by the means identified in the ADDRESSES section.

Costs of Compliance

We estimate that this AD affects 588 airplanes of U.S. registry. We estimate the following costs to comply with this AD:

Estimated Costs
Action | Labor cost | Parts cost | Cost per product | Cost on U.S. operators
Surface HFEC inspection | 5 work-hours × $85 per hour = $425 per inspection cycle | $0 | $425 per inspection cycle | $249,900 per inspection cycle.
Identify the material | Up to 2 work-hours × $85 per hour = $170 | 0 | Up to $170 | Up to $99,960.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-24-10 The Boeing Company: Amendment 39-19114; Docket No. FAA-2017-0340; Product Identifier 2017-NM-002-AD.

(a) Effective Date

This AD is effective January 9, 2018.

(b) Affected ADs

None.

(c) Applicability

(1) This AD applies to The Boeing Company Model 757-200, -200PF, and -300 series airplanes, certificated in any category, as identified in Boeing Alert Service Bulletin 757-53A0101, dated November 8, 2016.

(2) Installation of Supplemental Type Certificate (STC) ST01518SE does not affect the ability to accomplish the actions required by this AD. Therefore, for airplanes on which STC ST01518SE is installed, a “change in product” alternative method of compliance (AMOC) approval request is not necessary to comply with the requirements of 14 CFR 39.17.

(d) Subject

Air Transport Association (ATA) of America Code 53, Fuselage.

(e) Unsafe Condition

This AD was prompted by reports of cracking found at the fuselage station (STA) 1380 frame inner chord. We are issuing this AD to detect and correct such cracks, which could result in the cargo door opening during flight, and result in rapid decompression of the airplane and the inability to sustain loads required for continued safe flight and landing.

(f) Compliance

Comply with this AD within the compliance times specified, unless already done.

(g) Inspection for Group 1 Airplanes

For Group 1 airplanes as identified in Boeing Alert Service Bulletin 757-53A0101, dated November 8, 2016: At the applicable time specified in paragraph 1.E., “Compliance,” of Boeing Alert Service Bulletin 757-53A0101, dated November 8, 2016; except as specified in paragraph (i)(1) of this AD, do a surface high frequency eddy current (HFEC) inspection for any cracking of the fuselage STA 1380 frame inner chord, and do all applicable corrective actions, in accordance with the Accomplishment Instructions of Boeing Alert Service Bulletin 757-53A0101, dated November 8, 2016; except as specified in paragraph (i)(2) of this AD. Do all applicable corrective actions before further flight. Repeat the surface HFEC inspection, thereafter, at the times specified in paragraph 1.E., “Compliance,” of Boeing Alert Service Bulletin 757-53A0101, dated November 8, 2016.

(h) Inspection for Group 2 Airplanes

For Group 2 airplanes as identified in Boeing Alert Service Bulletin 757-53A0101, dated November 8, 2016: At the applicable time specified in paragraph 1.E., “Compliance,” of Boeing Alert Service Bulletin 757-53A0101, dated November 8, 2016, except as specified in paragraph (i)(1) of this AD, identify the material of the fuselage STA 1380 frame inner chord, in accordance with the Accomplishment Instructions of Boeing Alert Service Bulletin 757-53A0101, dated November 8, 2016.

(1) If the fuselage STA 1380 frame inner chord material 2024-T42 aluminum alloy is found during any identification required by paragraph (h) of this AD: No further action is required by this AD for that airplane.

(2) If the fuselage STA 1380 frame inner chord material 7075-T73 aluminum alloy is found during any identification required by the introductory text of paragraph (h) of this AD: Before further flight, do a surface HFEC inspection for any cracking of the fuselage STA 1380 frame inner chord, and do all applicable corrective actions, in accordance with the Accomplishment Instructions of Boeing Alert Service Bulletin 757-53A0101, dated November 8, 2016; except as specified in paragraph (i)(2) of this AD. Do all applicable corrective actions before further flight. Repeat the surface HFEC inspection thereafter at the times specified in paragraph 1.E., “Compliance,” of Boeing Alert Service Bulletin 757-53A0101, dated November 8, 2016.

(i) Exceptions to the Service Information

(1) Where Boeing Alert Service Bulletin 757-53A0101, dated November 8, 2016, specifies a compliance time “after the original issue date of this service bulletin,” this AD requires compliance within the specified compliance time after the effective date of this AD.

(2) Where Boeing Alert Service Bulletin 757-53A0101, dated November 8, 2016, specifies to contact Boeing for appropriate action and identifies that action as “RC” (Required for Compliance): Before further flight, repair the crack using a method approved in accordance with the procedures specified in paragraph (j) of this AD.

(j) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO, to make those findings. To be approved, the repair method, modification deviation, or alteration deviation must meet the certification basis of the airplane, and the approval must specifically refer to this AD.

(4) Except as required by paragraph (i)(2) of this AD: For service information that contains steps that are labeled as RC, the provisions of paragraphs (j)(4)(i) and (j)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

For more information about this AD, contact Muoi Vuong, Aerospace Engineer, Airframe Section, FAA, Los Angeles ACO, 3960 Paramount Boulevard, Lakewood, CA 90712-4137; phone: 562-627-5205; fax: 562-627-5210; email: Muoi.Vuong@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 757-53A0101, dated November 8, 2016.

(ii) Reserved.

(3) For Boeing service information identified in this AD, contact Boeing Commercial Airplanes, Attention: Contractual & Data Services (C&DS), 2600 Westminster Blvd., MC 110-SK57, Seal Beach, CA 90740-5600; telephone 562-797-1717; Internet https://www.myboeingfleet.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 22, 2017.
Jeffrey E. Duven,
Director, System Oversight Division, Aircraft Certification Service.

[FR Doc. 2017-26040 Filed 12-4-17; 8:45 am]

BILLING CODE 4910-13-P